DEPARTMENT OF STATE

[Public Notice 6496]

Notice of Intent to Prepare an Environmental Impact Statement and to Conduct Scoping Meetings and Notice of Floodplain and Wetland Involvement and to Initiate Consultation under Section 106 of the National Historic Preservation Act for the Proposed Transcanada Keystone Xl Pipeline

Public Notice

AGENCY: Department of State.

ACTION: Notice.

SUMMARY: TransCanada Keystone Pipeline, L.P. (Keystone) has applied to the United States Department of State for a Presidential Permit authorizing the construction, operation, and maintenance of facilities at the border of the United States for the importation of petroleum from a foreign country. Authorization is being requested in connection with Keystone's proposed international pipeline project (the Keystone XL Project), which is designed to transport crude oil production from the Western Canadian Sedimentary Basin to existing markets in the Texas Gulf Coast area. The Department of State receives and considers applications for Presidential Permits for such energy-related pipelines pursuant to authority delegated to it by the President under Executive Order 13337 of April 30, 2004 (69 FR 25299), as amended. To issue a Permit, the Department of State must find that issuance would serve the national interest. In the course of processing such applications, the Department consults extensively with concerned Federal and State agencies, and invites public comment in arriving at its determination. With respect to the application submitted by Keystone, the Department of State has concluded that the issuance of the Presidential Permit would constitute a major Federal action that may have a significant impact upon the environment within the meaning of the National Environmental Policy Act (NEPA) of 1969. For this reason, Department of State intends to prepare an EIS to address reasonably foreseeable impacts from the proposed action and alternatives. Additionally Department of State has determined that issuance of a Presidential permit for the Keystone XL project triggers review under Section 106 of the National Historic Preservation Act and is consequently initiating the required consultation under that statute. Consultation will be conducted with State Historic Preservation Officers, Indian tribes, and the Advisory Council on Historic Preservation, and other consulting parties, as appropriate, to determine the locations (if any) of potential sites for inclusion on the National Register of Historic Places as well as the potential eligibility and findings of effect for cultural resources identified within the Keystone XL Area of Potential Effect. The purpose of this Notice of Intent (NOI) is to inform the public about the proposed action, announce plans for scoping meetings, invite public participation in the scoping process, and solicit public comments for consideration in establishing the scope and content of the EIS. As the proposed project may involve an action in a floodplain or wetland, the EIS will include a floodplain and wetlands assessment and floodplain statement of findings.

DATES: Department of State invites interested agencies, organizations, and members of the public to submit comments or suggestions to assist in identifying significant environmental issues, measures that might be adopted to reduce environmental impacts, and in determining the appropriate scope of the EIS. The public scoping period starts with the publication of this Notice in the Federal Register on January 28, 2009 and will continue until March 16, 2009. Written, electronic, and oral comments will be given equal weight and State will consider all comments received or postmarked by March 16, 2009 in defining the scope of the EIS. Comments received or postmarked after that date will be considered to the extent practicable.

During this public scoping period, the Department of State plans to use the scoping process to help identify consulting parties and historic preservation issues for consideration under Section 106 of the National Historic Preservation Act and its implementing regulations (36 CFR Part 800). Because the project will cross lands under the jurisdiction of the U.S. Department of the Interior's Bureau of Land Management (BLM), Keystone has also filed applications with the BLM for a pipeline right-of-way (ROW) application (serial number MTM 98191) under the Mineral Leasing Act of 1920, as amended [(MLA) 30 U.S.C. 185]. BLM has jurisdiction over federal lands and is responsible for authorizing ROW grants under the MLA for the pipeline, pumping stations, access roads, and site improvements. The BLM is also expected to process ROW applications under the Federal Land Policy and Management Act (FLPMA) of 1976 for electrical transmission lines to supply power to the proposed pumping stations. For this reason, Department of State, with the BLM as a cooperating agency, intends to prepare an EIS to address environmental impacts of the proposed actions. BLM plans to process the ROW Grant and Temporary Use Permit in parallel with the processing of the Presidential Permit by DOS. BLM intends to use the EIS as its NEPA document for purposes of its permits. Separate Records of Decision will be prepared by each Federal agency pursuant to their respective action(s). The project also falls under the jurisdiction of the Montana Department of Environmental Quality (MDEQ) pursuant to the Montana Major Facility Siting Act (MFSA) and requires a review under the Montana Environmental Policy Act (MEPA). The Department of State understands that MDEQ also intends to utilize the EIS process to present information and analyses required before a decision is made under MFSA. This will be done parallel with the Department's processing of the application for the Presidential Permit.

Dates and Locations for the Public Scoping Meetings
Meeting date | Location | Venue
Monday, February 9, 7-9 p.m | Beaumont, TX | Mary and John Gray Library, 8F, Lamar University, 211 Redbird Lane, Beaumont, TX 77705.
Tuesday, February 10, 7-9 p.m | Liberty, TX | VFW Hall, 1520 N. Main Street, Liberty, TX 77575.
Wednesday, February 11, 7-9 p.m | Livingston, TX | Livingston Junior High School, 1801 Highway 59 Loop N., Livingston, TX 77351.
Thursday, February 12, 7-9 p.m | Tyler, TX | Harvey Convention Center, 2000 W. Front Street, Tyler, TX 75702.
Tuesday, February 17, 7-9 p.m | Durant, OK | Holiday Inn Express, 613 University Place, Durant, OK 74701.
Wednesday, February 18, 7-9 p.m | Ponca City, OK | Econo Lodge Meeting Room, 212 S. 14th Street, Ponca City, OK 74601.
Thursday, February 19, 12-2 p.m | El Dorado, KS | El Dorado Civic Center, Main Meeting Room, 201 E. Central, El Dorado, KS 67042.
Thursday, February 19, 7-9 p.m | Clay Center, KS | Kansas National Guard Armory, 227 S. 12th Street, Clay Center, KS 67432.
Monday, February 23, 7-9 p.m | York, NE | York Community Center, 211 E. 7th Street, York, NE 68467.
Tuesday, February 24, 7-9 p.m | Atkinson, NE | Atkinson Community Center, 206 W. 5th Street, Atkinson, NE 68713.
Wednesday, February 25, 7-9 p.m | Murdo, SD | Murdo Elementary School, Mini-gym, 305 Jefferson Avenue, Murdo, SD 57559.
Thursday, February 26, 7-9 p.m | Faith, SD | Community Legion Hall, Main Street, Faith, SD 57626.
Thursday, February 26, 7-9 p.m | Buffalo, SD | Harding County Memorial, Recreation Center, 204 Hodge Street, Buffalo, SD 57720.
Monday, February 23, 7-9 p.m | Baker, MT | Thee Garage and Steakhouse, 19 W. Montana Avenue, Baker, MT 59313.
Tuesday, February 24, 7-9 p.m | Terry, MT | Terry High School, 215 East Park, Terry, MT 59349.
Wednesday, February 25, 12-2 p.m | Circle, MT | Schmidts Super Valu, 105 10th Street, Circle, MT 59215.
Wednesday, February 25, 12-2 p.m | Plentywood, MT | Grandview Hotel, Gold Dollar Banquet Room, 120 S Main St., Plentywood, MT 59254.
Wednesday, February 25, 7-9 p.m | Glendive, MT | Dawson Community College, UC102 Lecture Hall, 300 College Drive, Glendive, MT 59330.
Thursday, February 26, 12-2 p.m | Glasgow, MT | Cottonwood Inn and Suites, Highway 2 East, Glasgow, MT 59230.
Thursday, February 26, 7-9 p.m | Malta, MT | Great Northern Hotel, 2 South 1st Street East, Malta, MT 59538.

A court reporter will be present and will record comments for the record.

ADDRESSES: Written comments or suggestions on the scope of the EIS should be addressed to: Elizabeth Orlando, OES/ENV Room 2657, U.S. Department of State, Washington, DC 20520. Comments may be submitted electronically to xlpipelineproject@state.gov. Public comments will be posted on the Web site identified below.

FOR FURTHER INFORMATION CONTACT: For information on the proposed project or to receive a copy of the draft EIS when it is issued, contact Elizabeth Orlando at the address listed in the ADDRESSES section of this notice by electronic or regular mail as listed above, or by telephone (202) 647-4284 or by fax at (202) 647-5947.

Project details and environmental information on the Keystone XL Project application for a Presidential Permit, including associated maps downloadable from a Web site that is being established for this purpose: http://www.keystonepipeline-XL.state.gov. This Web site is expected to be operational on or about January 23, 2009. This Web site will accept public comments for the record.

Information on the Department of State Presidential Permit process can also be found at the above Internet address. The MLA and FLPMA application submitted to BLM will be on file at its office in Billings, Montana.

A TransCanada hosted project Web site is also available at http://www.transcanada.com/keystone/kxl.html. The Keystone XL Project toll-free number is 1-866-717-7473 (United States and Canada).

SUPPLEMENTARY INFORMATION:

Background and Need for Agency Action

Keystone is proposing to construct and operate a crude oil pipeline and related facilities from Hardisty, Alberta, Canada, to the Port Arthur and east Houston areas of Texas in the United States (U.S.). The project, known as the Keystone XL Project, would have a nominal capacity to deliver up to 900,000 barrels per day (bpd) of crude oil from an oil supply hub near Hardisty to existing terminals in Nederland (Jefferson County) near Port Arthur and Moore Junction (Harris County) in Houston, Texas. The Keystone XL Project would consist of three new pipeline segments (the Steele City Segment, the Gulf Coast Segment and the Houston Lateral Segment) and would also provide additional pumping capacity on the Cushing Extension Segment of the previously-permitted Keystone Pipeline Project (Keystone Cushing Extension). The Steele City Segment of the Keystone XL Project would extend from Hardisty, Alberta southeast to Steele City, Nebraska (Jefferson County). The Gulf Coast Segment would extend from Cushing, Oklahoma (Lincoln County) south to Nederland, Texas (Jefferson County). The Houston Lateral Segment would extend from the Gulf Coast Segment, in Liberty County, Texas southwest to Moore Junction, Harris County, Texas, near the Houston Ship Channel. In total, the Keystone XL Project would consist of approximately 1,702 miles of new, 36-inch-diameter pipeline, consisting of about 327 miles in Canada and 1,375 miles within the United States. It would interconnect with the northern and southern termini of the previously approved 298-mile-long, 36-inch-diameter Keystone Cushing Extension. The Keystone XL Project would be placed into service in phases. The project would be located primarily in rural areas, with more populated areas occurring around Houston, Texas. U.S. counties that could possibly be affected by construction of the proposed pipeline are:

Montana: Phillips, Valley, McCone, Dawson, Prairie, Fallon.

South Dakota: Harding, Butte, Perkins, Meade, Pennington, Haakon, Jones, Lyman, Tripp.

Nebraska: Keya Paha, Rock, Holt, Garfield, Wheeler, Greele, Boone, Nance, Merrick, Hamilton, York, Fillmore, Saline, Jefferson.

Kansas: Clay, Butler.

Oklahoma: Atoka, Bryan, Coal, Creek, Hughes, Lincoln, Okfuskee, Payne, Seminole.

Texas: Angelina, Cherokee, Delta, Fannin, Franklin, Hardin, Hopkins, Jefferson, Lamar, Liberty, Nacogdoches, Polk, Rusk, Smith, Upshur, Wood, Chambers, Harris.

In Canada, the project, as proposed, would involve the construction of approximately 327 miles of 36-inch diameter pipeline from Hardisty to the U.S./Canadian border near Morgan, Montana (Phillips County). The Department understands that appropriate regulatory authorities in Canada will be conducting an independent environmental review process for the Canadian facilities.

In the United States, the proposed Keystone XL pipeline would consist of 1,375 miles of 36-inch diameter pipeline. The Steele City Segment would be approximately 850 miles long. The Gulf Coast Segment would be approximately 478 miles long. The Houston Lateral would be approximately 47 miles long.

Keystone would construct the Keystone XL project within a 110-foot-wide corridor, consisting of both a temporary 60-foot-wide construction right-of-way (ROW) and a 50-foot-wide permanent ROW. The 60-foot width and 50-foot width may not overlap. Extra temporary workspace would be required in some locations, including steep slopes, rough terrain, stream, wetland and road crossings.

Aboveground facilities for the proposed Keystone XL Project would include 30 pump stations and 73 mainline valves (located within the ROW). The pump stations would enable Keystone to maintain the pressure required to make crude oil deliveries. Valves are proposed to be installed and located as dictated by the hydraulic characteristics of the pipeline and as required by Federal regulations. Construction of delivery metering and other facilities at Nederland and the Houston Ship Channel in Texas would measure the amount of product transported and delivered to terminals.

A new tank farm would be required where the Keystone XL Project would intersect with the Keystone Cushing Extension near Steele City, Nebraska (Jefferson County). This tank farm would occupy approximately 50 acres of land and consist of three, 350,000 barrel storage tanks with electrically driven pumps and other systems to manage the oil movements from the Keystone XL pipeline onto the Keystone Cushing Extension.

It is estimated that approximately 205 perennial water body crossings could occur during the proposed construction of the Keystone XL mainline. Approximately 33 of these would be crossed with the Horizontal Directional Drilling (HDD) method to avoid river and river bank impacts. Proposed major river crossings would include but are not limited to the Missouri, Milk, Niobrara, Yellowstone, Little Missouri, Cheyenne, White, Platte, Deep Fork, North Canadian, Canadian, Red, North Sulphur, South Sulphur, Angelina, Trinity, and San Jacinto Rivers. All of these major rivers would be crossed by the HDD construction method. Wetlands would be crossed by the proposed route.

New pump stations and remotely-activated valves proposed to be located along the pipeline route would require electrical transmission power lines and facility upgrades in multiple locations along its route. These proposed electrical components would be constructed and operated by local power providers, not Keystone. The construction and operation of these facilities would be considered connected actions under NEPA and associated actions under MFSA and, therefore, will be evaluated within the EIS.

Keystone plans to begin construction of the pipeline in 2010. Proposed construction would take place in phases, with the Gulf Coast Segment and Houston Lateral completed in 2011 and the Steele City Segment and tank farm completed in 2012. Proposed construction is planned to occur over an approximately 8-12 month period for each phase.

Land Requirements

It is estimated that construction of the project as proposed would cause approximately 20,787 acres of land to be disturbed as temporary construction workspace. Of the 20,787 acres disturbed during construction, approximately 8,810 acres of land would be required as permanent ROW. Approximately 11,977 disturbed acres would be restored and returned to their previous use after construction. As proposed, approximately 2,441 acres of permanent ROW would not be restored to forested conditions, but rather herbaceous vegetation. Another 206 acres would serve to provide adequate space for aboveground facilities, including pump stations, valves, etc. for the life of the pipeline. As currently proposed, 42.6 miles of federally owned lands would be crossed. This includes 42.2 miles of BLM land and 0.4 miles of Department of Defense land (managed by the U.S. Army Corps of Engineers). The number of miles of conservation easements administered by the U.S. Department of Agriculture under the Conservation Reserve Program and Wetlands Reserve Program has not been determined at this time.

The EIS Process

NEPA requires the Department of State to take into account the environmental impacts that could result from the approval of a Presidential Permit authorizing construction, operation, and maintenance of pipeline facilities for the importation of crude oil to be located at the international border of the United States and Canada. The Department of State will use the EIS to assess the environmental impact that could result if Keystone is granted a Presidential permit for the Keystone XL Pipeline Project. A third party contractor has been selected to prepare the EIS which will be reviewed by the Department of State and the cooperating agencies.

NEPA also requires the Department of State and BLM to identify concerns the public may have about proposals under consideration by the Department of State. This process is referred to as “scoping.” The BLM plans to adopt the EIS as its analysis under NEPA if the document meets the stated purpose and need of BLM action. The purpose and need of the BLM action in this NOI is to process received application for MLA sand FLPMA rights-of-way grants for legal use and access across the Federal public lands under the BLM jurisdiction. At this time, BLM has determined no approved land use plans would require amendment if the proposal is approved. The main goal of the scoping process is to focus the analysis in the EIS on the important environmental issues. With this Notice of Intent, the Department of State is requesting public comments on the scope of the issues to be addressed in the EIS. All comments received during the scoping period will be considered during preparation of the EIS. Comments received after the close of the comment period will be considered to the extent practicable.

In the EIS, the Department of State will discuss impacts that could occur as a result of the construction and operation of the proposed project under these general headings:

• Geology and soils;

• Water resources;

• Fish, wildlife, and vegetation;

• Threatened and endangered species;

• Cultural resources;

• Land use, recreation and special interest areas;

• Visual resources;

• Air quality and noise;

• Socioeconomics; and,

• Reliability and safety.

In the EIS, the Department of State will also evaluate reasonable alternatives to the proposed project or portions of the project and make recommendations on how to lessen or avoid impacts on affected resources. In addition, a “no action alternative” will be considered.

The Department of State's independent analysis of the issues will be included in a draft EIS. The draft EIS will be published and mailed to relevant Federal, State, and local government agencies, elected officials, environmental and public interest groups, Indian tribes, affected landowners, commenters, local libraries, newspapers, and other interested parties. A 45-day comment period will be allotted for review of the draft EIS. We will consider all timely comments on the draft EIS and revise the document, as necessary, before issuing a final EIS.

Currently Identified Environmental Issues

The EIS will discuss impacts that could occur as a result of the construction, operation and maintenance of the proposed project. Currently identified issues that the Department believes warrant attention include:

• Construction rights-of-way and associated pipeline impacts.

• Potential effects on farmland and soils with a high potential for compaction.

• Potential impacts to existing land uses, including agricultural, residential, range and pasture lands, and timber lands.

• Potential impacts to perennial and intermittent water bodies.

• Potential temporary and permanent impacts on wetlands.

• Potential impacts to fish and wildlife habitat, including potential impacts to Federal and State-listed threatened and endangered species.

• Potential impacts to state and federal lands, including federally-managed areas under BLM jurisdiction and federally-managed conservation lands.

• Potential impacts to state-managed conservation lands.

• Potential impacts to historic and pre-historic cultural resource sites.

• Potential impacts and benefits of the construction workforce on local housing, infrastructure, public services and economy.

• Public safety and potential hazards associated with the transport of crude oil.

• Alternative alignments for the pipeline route.

• Assessment of the cumulative effect of the proposed project when combined with other past, present, or reasonably foreseeable future actions in the project area.

• Potential generation of greenhouse gasses.

• Public participation.

This list of issues may be changed based on public comments and analysis.

You are encouraged to become involved in this process and provide your specific comments or concerns about the proposed project. By becoming a commenter, your concerns will be considered by the Department of State and addressed appropriately in the EIS. Your comments should focus on the potential environmental impacts, reasonable alternatives (including alternative facility sites and alternative pipeline routes), and measures to avoid or lessen environmental impacts. Parties interested in being involved in Section 106 consultation should also contact the Department of State. The more specific your comments, the more useful they will be.

The public scoping meetings identified above are designed to provide another opportunity to offer comments on the proposed project. Interested individuals and groups are encouraged to attend these meetings and to present comments on the environmental issues they believe should be addressed in the EIS. Again, written comments are considered with equal weight in the process relative to those received in public scoping meetings.

Issued in Washington, DC on January 28, 2009:
Stephen J. Gallogly,
Director, Office of International Energy and Commodities Policy, Department of State.

[FR Doc. E9-1828 Filed 1-27-09; 8:45 am]

BILLING CODE 4710-07-P